DEPARTMENT OF TRANSPORTATION

Federal Aviation Administration

14 CFR Part 39

[Docket No. 2001-CE-43-AD; Amendment 39-12768; AD 2002-11-07]

RIN 2120-AA64

Airworthiness Directives; Raytheon Aircraft Company Models E55, E55A, A56TC, 58, 58A, 58P, 58PA, 58TC, and 58TCA Airplanes

AGENCY: Federal Aviation Administration, DOT.

ACTION: Final rule.

SUMMARY: This amendment adopts a new airworthiness directive (AD) that applies to certain Raytheon Aircraft Company (Raytheon) Models E55, E55A, A56TC, 58, 58A, 58P, 58PA, 58TC, and 58TCA airplanes. This AD requires you to inspect the Instrument Subpanel electroluminescent panel retaining screw for proper length and the rotating beacon circuit breaker switch (or any other switch in the same location) for damage and replace any screw or circuit breaker switch as necessary. This AD is the result of a report that an improper length electroluminescent panel retaining screw damaged the rotating beacon circuit breaker switch, which resulted in damaged wiring. The actions specified by this AD are intended to prevent damage to the rotating beacon circuit breaker switch or any other switch in the same location because of an incorrect length electroluminescent panel retaining screw. This condition could result in failure of the circuit breaker and lead to smoke and/or fire in the cockpit.

DATES: This AD becomes effective on July 15, 2002.

The Director of the Federal Register approved the incorporation by reference of certain publications listed in the regulations as of July 15, 2002.

ADDRESSES: You may get the service information referenced in this AD from Raytheon Aircraft Company, P.O. Box 85, Wichita, Kansas 67201-0085; telephone: (800) 429-5372 or (316) 676-3140. You may view this information at the Federal Aviation Administration (FAA), Central Region, Office of the Regional Counsel, Attention: Rules Docket No. 2001-CE-43-AD, 901 Locust, Room 506, Kansas City, Missouri 64106; or at the Office of the Federal Register, 800 North Capitol Street, NW., suite 700, Washington, DC.

FOR FURTHER INFORMATION CONTACT: Todd Dixon, Aerospace Engineer, FAA, Wichita Aircraft Certification Office, 1801 Airport Road, Room 100, Mid-Continent Airport, Wichita, Kansas 67209; telephone: (316) 946-4152; facsimile: (316) 946-4407.

SUPPLEMENTARY INFORMATION:

Discussion

What Events Have Caused This AD?

Raytheon notified FAA of an incident where the pilot had to return to the departing airport after declaring an emergency because of smoke in the cockpit. After investigation, FAA determined that the cause of smoke in the cockpit was a result of damage to the rotating beacon circuit breaker switch caused by an improper length electroluminescent panel retaining screw. The damaged circuit breaker switch failed to shutdown the electrical current to the rotating beacon. Failure of the circuit breaker switch caused the wiring to burn through the insulation and the other wires in the wire bundle that were routed with the wiring to the rotating beacon circuit breaker switch.

What Is the Potential Impact if FAA Took no Action?

This condition, if not corrected, could result in failure of the rotating beacon circuit breaker switch or any other switch in the same location. Failure of the circuit breaker switch could result in smoke and/or fire in the cockpit.

Has FAA Taken Any Action to This Point?

We issued a proposal to amend part 39 of the Federal Aviation Regulations (14 CFR part 39) to include an AD that would apply to certain Raytheon Models E55, E55A, A56TC, 58, 58A, 58P, 58PA, 58TC, and 58TCA airplanes. This proposal was published in the Federal Register as a notice of proposed rulemaking (NPRM) on January 31, 2002 (67 FR 4683). The NPRM proposed to require you to:

—Inspect the Instrument Subpanel electroluminescent panel for the installation of a rotating beacon circuit breaker switch or any other switch installed directly above the electroluminescent panel retaining screw;

—Inspect the installed switch for damage;

—Replace any damaged switch;

—Inspect the electroluminescent panel retaining screw to ensure correct length; and

—Replace any incorrect length electroluminescent panel retaining screw with a part number (P/N) MS35214-24 screw.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—do not add any additional burden upon the public than was already proposed in the NPRM.

What Are the Differences Between This AD and the Service Information?

Raytheon Mandatory Service Bulletin No. SB 33-3452, Issued: May, 2001, is applicable to Models E55, A56TC, 58, 58P, and 58TC airplanes. We have expanded the applicability of this AD to include Models E55A, 58A, 58PA, and 58TCA airplanes. The serial number ranges of the affected models indicated in the service information include these models as indicated on Type Certificate Data Sheet 3A16, dated January 15, 2000.

Raytheon Mandatory Service Bulletin No. SB 33-3452, Issued: May, 2001, specifies that you accomplish the inspection within 25 hours time-in-service (TIS) or 10 days after the effective date of the AD. We require that you inspect within 100 hours TIS after the effective date of this AD.

We do not have justification to require this action within 25 hours TIS. We use compliance times such as this when we have identified an urgent safety of flight situation. We believe that 100 hours TIS will give the owners or operators of the affected airplanes enough time to have the actions accomplished without compromising the safety of the airplanes.

Cost Impact

How Many Airplanes Does This AD Impact?

We estimate that this AD affects 1,636 airplanes in the U.S. registry.

What Is the Cost Impact of This AD on Owners/Operators of the Affected Airplanes?

We estimate the following costs to accomplish the inspection:

Labor cost | Parts cost | Total cost per airplane | Total cost on U.S. operators
1 workhour × $60 per hour = $60 | No parts required for the inspection | $60 | $98,160

We estimate the following costs to accomplish any necessary replacements that will be required based on the results of the inspection. We have no way of determining the number of airplanes that may need such replacements:

Labor cost | Parts cost | Total cost per airplane
3 workhours × $60 per hour = $180 | $1 for a new electroluminescent panel retaining screw $40 for a new circuit breaker switch | $180 + applicable replacement part(s) cost.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-11-07 Raytheon Aircraft Company: Amendment 39-12768; Docket No. 2001-CE-43-AD.

(a) What airplanes are affected by this AD? This AD affects the following airplane models and serial numbers that are certificated in any category:

Model | Serial Nos.
E55 and E55A | TE-768 through TE-1201.
A56TC | TG-84 through TG-94.
58 and 58A | TH-1 through TH-1388 and TH-1390 through TH-1395.
58P and 58PA | TJ-3 through TJ-435 and TJ-437 through TJ-443.
58TC and 58TCA | TK-1 through TK-146 and TK-148 through TK-150.

(b) Who must comply with this AD? Anyone who wishes to operate any of the airplanes identified in paragraph (a) of this AD must comply with this AD.

(c) What problem does this AD address? The actions specified by this AD are intended to prevent damage to the rotating beacon circuit breaker switch or any other switch in the same location because of an incorrect length electroluminescent panel retaining screw. This condition could result in failure of the circuit breaker and lead to smoke and/or fire in the cockpit.

(d) What actions must I accomplish to address this problem? To address this problem, you must accomplish the following, unless already accomplished:

Actions | Compliance | Procedures
(1) Inspect the Instrument Subpanel electroluminescent panel for the installation of a rotating beacon circuit breaker switch or any other switch directly above the lower electroluminescent panel retaining screw | Within the next 100 hours time-in-service (TIS) after July 15, 2002 (the effective date of this AD) | In accordance with the Accomplishment Instructions section of Raytheon Mandatory Service Bulletin SB 33-3452, Issued: May, 2001.
(i) If a blanking plug is installed above the lower electroluminescent panel retaining screw, ensure that the correct length screw is installed. The correct length is 0.28 to 0.31 inches
(ii) If the screw is not the correct length, install part number (P/N) MS35214-24 or FAA-approved equivalent part number
(iii) If a rotating beacon circuit breaker switch or any other switch is installed, inspect the switch for damage.
(2) Replace any damaged switch found during the inspection required in paragraph (d)(1)(iii) of this AD and replace the electroluminescent panel retaining screw if it is not 0.28 to 0.31 inches in length with a P/N MS35214-24 screw or FAA-approved equivalent part number | Prior to further flight after the inspection required by paragraph (d)(1)(iii) of this AD | In accordance with the Accomplishment Instructions section of Raytheon Mandatory Service Bulletin SB 33-3452, Issued: May, 2001.
(3) Do not install any electroluminescent panel retaining screw in the lower part of the Instrument Subpanel (underneath the circuit breaker switches) that is not P/N MS35214-24 or FAA-approved equivalent part number | As of July 15, 2002 (the effective date of this AD) | Not applicable.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Todd Dixon, Aerospace Engineer, FAA, Wichita Aircraft Certification Office, 1801 Airport Road, Room 100, Mid-Continent Airport, Wichita, Kansas 67209; telephone: (316) 946-4152; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin SB 33-3452, Issued: May, 2001. The Director of the Federal Register approved this incorporation by reference under 5 U.S.C. 552(a) and 1 CFR part 51. You may get copies from Raytheon Aircraft Company, P.O. Box 85, Wichita, Kansas 67201-0085. You may view copies at the FAA, Central Region, Office of the Regional Counsel, 901 Locust, Room 506, Kansas City, Missouri, or at the Office of the Federal Register, 800 North Capitol Street, NW., suite 700, Washington, DC.

(i) When does this amendment become effective? This amendment becomes effective on July 15, 2002.

Issued in Kansas City, Missouri, on May 23, 2002.
James E. Jackson,
Acting Manager, Small Airplane Directorate, Aircraft Certification Service.

[FR Doc. 02-13764 Filed 6-5-02; 8:45 am]

BILLING CODE 4910-13-P